DEPARTMENT OF LABOR

Employment and Training Administration

[TA-W-64,380]

Alcoa, Inc., U.S. Primary Metals Division, Including On-Site Leased Workers From Advance Electric, Applied, Bramtex, Prince Foods, Concentra Medical, Fluor, Hagameyer, T&K, Veolia, WSI, Zachary, GCA Services, RCI, Commercial Contracting, Southern Global, Mine Services, Crocker, Vescom, Aramark, Tri State, Magnum Engineering Rockdale, TX; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 3, 2008, applicable to workers of Alcoa, Inc., U.S. Primary Metals Division, Rockdale, Texas. The notice was published in the Federal Register on December 18, 2008 (73 FR 77067).

At the request of the State agency, the Department reviewed the certification for workers of the subject firm. The workers are engaged in the production of aluminum.

New information shows that workers leased from Advance Electric, Applied, Bramtex, Prince Foods, Concentra Medical, Fluor, Hagameyer, T&K, Veolia, WSI, Zachary, GCA Services, RCI, Commercial Contracting, Southern Global, Mine Services, Crocker, Vescom, Aramark, Tri State, and Magnum Engineering were employed on-site at the Rockdale, Texas location of Alcoa, Inc., U.S. Primary Metals Division. The Department has determined that these workers were sufficiently under the control of Alcoa, Inc., U.S. Primary Metals Division to be considered leased workers.

Based on these findings, the Department is amending this certification to include workers leased from the above mentioned firms working on-site at the Rockdale, Texas location of the subject firm.

The intent of the Department's certification is to include all workers employed at Alcoa, Inc., U.S. Primary Metals Division, Rockdale, Texas, who were adversely affected by a shift in production of aluminum to Canada.

The amended notice applicable to TA-W-64,380 is hereby issued as follows:

All workers of Alcoa, Inc., U.S. Primary Metals Division, including on-site leased workers of Advance Electric, Applied, Bramtex, Prince Foods, Concentra Medical, Fluor, Hagameyer, T&K, Veolia, WSI, Zachary, GCA Services, RCI, Commercial Contracting, Southern Global, Mine Services, Crocker, Vescom, Aramark, Tri State and Magnum Engineering, Rockdale, Texas, who became totally or partially separated from employment on or after November 6, 2007 through December 3, 2010, are eligible to apply for adjustment assistance under Section 223 of the Trade Act of 1974, and are also eligible to apply for alternative trade adjustment assistance under Section 246 of the Trade Act of 1974.

Signed at Washington, DC, this 29th day of January 2009.
Elliott S. Kushner,
Certifying Officer, Division of Trade Adjustment Assistance.

[FR Doc. E9-3036 Filed 2-12-09; 8:45 am]

BILLING CODE 4510-FN-P